Title 3—

The President

Executive Order 13389 of November 1, 2005

Creation of the Gulf Coast Recovery and Rebuilding Council

By the authority vested in me as President of the United States by the Constitution and the laws of the United States of America, including the Robert T. Stafford Disaster Relief and Emergency Assistance Act, as amended (42 U.S.C. 5121-5206) (the “Stafford Act”), and in order to further strengthen Federal support for the recovery and rebuilding of the Gulf Coast region affected by Hurricane Katrina and Hurricane Rita, it is hereby ordered as follows:

Section 1. Policy. It is the policy of the United States to provide effective, integrated, and fiscally responsible support from across the Federal Government to support State, local, and tribal governments, the private sector, and faith-based and other community humanitarian relief organizations in the recovery and rebuilding of the Gulf Coast region affected by Hurricane Katrina and Hurricane Rita.

Sec. 2. Establishment. (a) There is established, within the Executive Office of the President, the Gulf Coast Recovery and Rebuilding Council (the “Council”). The Assistant to the President for Economic Policy shall serve as the Chairman of the Council (the “Chairman”). The Council shall consist exclusively of the following members or full-time Federal officers or employees designated by them, respectively:

(i) Secretary of the Treasury;

(ii) Secretary of Defense;

(iii) Attorney General;

(iv) Secretary of the Interior;

(v) Secretary of Agriculture;

(vi) Secretary of Commerce;

(vii) Secretary of Labor;

(viii) Secretary of Health and Human Services;

(ix) Secretary of Housing and Urban Development;

(x) Secretary of Transportation;

(xi) Secretary of Energy;

(xii) Secretary of Education;

(xiii) Secretary of Veterans Affairs;

(xiv) Secretary of Homeland Security;

(xv) Administrator of the Environmental Protection Agency;

(xvi) Chairman of the Council of Economic Advisers;

(xvii) Administrator of the Small Business Administration;

(xviii) Director of the Office of Management and Budget;

(xix) Coordinator of Federal Support for the Recovery and Rebuilding of the Gulf Coast Region;

(xx) Assistant to the President for Economic Policy;

(xxi) Assistant to the President for Domestic Policy;

(xxii) Assistant to the President for Homeland Security and Counterterrorism; and

(xxiii) Such other officers and employees of the executive branch as the Chairman may from time to time designate.

(b) The Chairman, in consultation with the Coordinator, shall convene and preside over meetings of the Council, determine its agenda, direct its work, and, as appropriate to particular subject matters, establish and direct subgroups of the Council, which shall consist of Council members or their designees under subsection 2(a) of this order, and including those officers and employees of the executive branch as designated by the Chairman.

Sec. 3. Functions of Council. The Council shall:

(a) at the request of the Chairman, the Coordinator of Federal Support for the Recovery and Rebuilding of the Gulf Coast Region, or any agency head who is a member of the Council (subject to the approval of the Chairman), promptly review and provide advice and guidance, for the purpose of furthering the policy set forth in section 1 of this order, regarding any issue relating to the implementation of that policy;

(b) make recommendations to the President, as appropriate, regarding any issue considered by the Council pursuant to section 3(a) of this order; and

(c) give no vote or veto over the activities or advice of the Council to any individual to whom subsection (b) of this section refers.

Sec. 4. General. (a) To the extent permitted by law:

(i) agencies shall assist and provide information to the Council for the performance of its functions under this order; and

(ii) the Director of the Office of Administration shall provide or arrange for the provision of administrative support to the Council.

(b) Nothing in this order shall be construed to impair or otherwise affect the functions of the Director of the Office of Management and Budget relating to budget, administrative, or legislative proposals.

(c) This order shall be implemented in a manner consistent with applicable law and subject to the availability of appropriations.

(d) This order is intended only to improve the internal management of the executive branch and is not intended to, and does not, create any right or benefit, substantive or procedural, enforceable at law or in equity by a party against the United States, its departments, agencies, instrumentalities, or entities, its officers or employees, or any other person.

Sec. 5. Termination. The Council shall terminate 3 years from the date of this order, unless extended by the President.

B

THE WHITE HOUSE,

November 1, 2005.

[FR Doc. 05-22132

Filed 11-3-05; 8:45 am]

Billing code 3195-01-P